FEDERAL ACCOUNTING STANDARDS ADVISORY BOARD

Notice of Reestablishment of Federal Accounting Standards Advisory Board Charter and Appointments Panel Charter

AGENCY: Federal Accounting Standards Advisory Board.

ACTION: Notice.

In accordance with the provisions of the Federal Advisory Committee Act, Title 5 United States Code, Chapter 10, and Title 41, Code of Federal Regulations, Section 102-3.65, notice is hereby given that the Secretary of the Treasury, the Director of the Office of Management and Budget, and the Comptroller General of the United States (the Sponsors) have agreed to reestablish the Federal Accounting Standards Advisory Board (FASAB), an advisory committee to consider and recommend accounting standards and principles for the federal government. FASAB is reestablished pursuant to the authority of Title 31 United States Code, Section 3511, as part of a continuous program for improving accounting and financial reporting in the federal government.

Notice is also hereby given that the Sponsors have agreed to reestablish a charter for FASAB's subcommittee, called the Appointments Panel. The Appointments Panel's mission is to assist in the selection, appointment, and monitoring of special government employee members of FASAB. The Panel assists the Sponsors by recruiting and recommending individuals for appointment or reappointment of special government employee members. The panel also assists the Sponsors and FASAB in evaluating and monitoring adherence to the American Institute of Certified Public Accountants (AICPA) criteria for an entity designated as a source for generally accepted accounting principles (GAAP).

Both charters lapsed during the most recent government shutdown, necessitating a reestablishment of the charters as opposed to a renewal. The Sponsors affirm that both FASAB and the Appointments Panel are essential to the conduct of the agencies' business, are in the public interest, and the functions cannot be performed by other means.

FOR FURTHER INFORMATION CONTACT: Ms. Monica R. Valentine, Executive Director, 441 G Street NW, Suite 1155, Washington, DC 20548, or call (202) 512-7350.

(Authority: 31 U.S.C. 3511(d); Federal Advisory Committee Act, 5 U.S.C. 1001-1014.)

Dated: November 18, 2025.
Monica R. Valentine,
Executive Director.

[FR Doc. 2025-20531 Filed 11-20-25; 8:45 am]

BILLING CODE 1610-02-P